DEPARTMENT OF TRANSPORTATION

Federal Motor Carrier Safety Administration

[FMCSA Docket No. FMCSA-2006-25756]

Commercial Driver's License (CDL) Standards; Volvo Trucks North America, Renewal of Exemption

AGENCY: Federal Motor Carrier Safety Administration (FMCSA), DOT.

ACTION: Notice of final disposition.

SUMMARY: FMCSA announces its decision to continue in effect Volvo Trucks North America's (Volvo) exemption for five of its drivers to enable them to test-drive commercial motor vehicles (CMVs) in the United States without a commercial driver's license (CDL) issued by one of the States. FMCSA previously announced its decision to renew Volvo's exemption, pending a review of public comments. No comments were received.

DATES: This exemption is effective from February 4, 2010, through February 4, 2012.

FOR FURTHER INFORMATION CONTACT: Mr. Robert Schultz, FMCSA Driver and Carrier Operations Division, Office of Bus and Truck Standards and Operations, Telephone: 202-366-4325. E-mail: MCPSD@dot.gov.

SUPPLEMENTARY INFORMATION:

Background

Under 49 U.S.C. 31315 and 31136(e), FMCSA may renew an exemption from the CDL requirements of 49 CFR 383.23 for a maximum 2-year period if it finds “such exemption would likely achieve a level of safety that is equivalent to, or greater than, the level that would be achieved absent such exemption.” The procedures for requesting an exemption (including renewals) are prescribed in 49 CFR part 381. FMCSA evaluated Volvo's application and decided to grant the renewal of the exemption for five of Volvo's engineers and technicians for a 2-year period, effective February 4, 2010, as previously announced in the Federal Register (75 FR 33663, June 14, 2010).

Comments

In the Federal Register notice of June 14, 2010, FMCSA requested public comment on the renewal; the Agency received none in the 30-day comment period (FMCSA Docket No. FMCSA-2006-25756).

Terms and Conditions for the Exemption

Based upon its evaluation of the application, FMCSA granted Volvo a renewal of the exemption from the Federal CDL requirement in 49 CFR 383.23 for a period of 2 years from February 4, 2010, through February 4, 2012, for 5 drivers (Jonas Gustafsson, Christer Milding, Jonas Nilsson, Bjorn Nyman, and Sten-Ake Sandberg) who test-drive CMVs within the United States. The exemption is subject to the following terms and conditions: (1) This exemption is valid only when these drivers are acting within the scope of their employment by Volvo, (2) The drivers must keep a copy of the exemption on the vehicle at all times for presentation to a duly authorized Federal, State, or local enforcement official, (3) The drivers and Volvo must adhere to driver disqualification rules under 49 CFR parts 383 and 391 that apply to other CMV drivers in the United States, (4) The drivers and Volvo must adhere to drug and alcohol regulations, including testing, as provided by in 49 CFR part 382, (5) The drivers are subject to all other provisions of the Federal Motor Carrier Safety Regulations (FMCSRs) (49 CFR 390-397) unless specifically exempted herein, (6) Volvo must notify FMCSA in writing of any accident, as defined in 49 CFR 390.5, involving this exempted driver, and (7) Volvo must notify FMCSA in writing if this driver is convicted of a disqualifying offense described in sections 383.51 or 391.15 of the FMCSRs.

This exemption will be revoked if: (1) The drivers for Volvo fail to comply with the terms and conditions of the exemption; (2) the exemption has resulted in a lower level of safety than was maintained before it was granted; or (3) continuation of the exemption would not be consistent with the goals and objectives of 49 U.S.C. 31315 and 31136.

Issued on: August 4, 2010.
Larry W. Minor,
Associate Administrator for Policy and Program Development.

[FR Doc. 2010-19589 Filed 8-6-10; 8:45 am]

BILLING CODE 4910-EX-P